SMALL BUSINESS ADMINISTRATION

[Disaster Declaration #11256 and #11257]

Arkansas Disaster Number AR-00020

AGENCY: U.S. Small Business Administration.

ACTION: Amendment 1.

SUMMARY: This is an amendment of the Presidential declaration of a major disaster for the State of Arkansas (FEMA-1758-DR), dated 05/20/2008.

Incident: Severe Storms, Flooding, and Tornadoes.

Incident Period: 05/02/2008 and continuing.

DATES: Effective Date: 05/23/2008.

Physical Loan Application Deadline Date: 07/21/2008.

EIDL Loan Application Deadline Date: 02/20/2009.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Arkansas, dated 05/20/2008 is hereby amended to include the following areas as adversely affected by the disaster:

Primary Counties: (Physical Damage and Economic Injury Loans):Arkansas, Phillips.

Contiguous Counties: (Economic Injury Loans Only):

Arkansas: Desha, Lincoln, Monroe.

Mississippi, Bolivar, Coahoma.

All other information in the original declaration remains unchanged.

(Catalog of Federal Domestic Assistance Numbers 59002 and 59008)

Herbert L. Mitchell,
Associate Administrator for Disaster Assistance.

[FR Doc. E8-12533 Filed 6-4-08; 8:45 am]

BILLING CODE 8025-01-P